DEPARTMENT OF COMMERCE

International Trade Administration

[A-549-813]

Canned Pineapple Fruit from Thailand; Final Results of the Full Sunset Review of the Antidumping Duty Order

AGENCY: Import Administration, International Trade Administration, Department of Commerce.

SUMMARY: On October 27, 2006, the Department of Commerce (“the Department”) published a notice of preliminary results of the full sunset review of the antidumping duty order on canned pineapple fruit (“CPF”) from Thailand (71 FR62994 ) pursuant to section 751 (c) of the Tariff Act of 1930, as amended (“the Act”). We provided interested parties an opportunity to comment on our preliminary results. We received a case brief from respondent interested parties, Pineapple Processors' Group, Thai Food Processors' Association, Thai Pineapple Canning Industry Corp., Ltd., Malee Sampran Public Co., Ltd. (“Malee”), The Siam Agro Industry Pineapples and Others Public Co., Ltd. (“SAICO”), Great Oriental Food Products Co., Ltd., Thai Pineapple Products and Other Fruits Co. Ltd., The Tipco Foods (Thailand) PCL, Pranburi Hotei Co. Ltd., and Siam Fruit Canning (1988) Co., Ltd. (collectively, “Respondents”). We received a rebuttal brief from the domestic interested party, Maui Pineapple Company (“Maui”). As a result of this sunset review, the Department finds that revocation of this order would be likely to lead to continuation or recurrence of dumping at the levels indicated in the “Final Results of Review” section of this notice.

EFFECTIVE DATE: March 6, 2007.

FOR FURTHER INFORMATION CONTACT: Martha Douthit, Myrna Lobo, or Dana Mermelstein, AD/CVD Operations, Office 6, Import Administration, International Trade Administration, U.S. Department of Commerce, 14th Street & Constitution Avenue, NW, Washington, DC, 20230; telephone: 202-482-5050, 202-482-2371, and 202-482-1391, respectively.

SUPPLEMENTARY INFORMATION:

Background

On October 27, 2006, the Department of Commerce (the “Department”) published in the Federal Register a notice of preliminary results of the full sunset review of the antidumping duty order on CPF, pursuant to section 751(c) of the Act. See Canned Pineapple Fruit from Thailand: Preliminary Results of the Full Sunset Review of the Antidumping Duty Order (“Preliminary Results”). In our Preliminary Results, we determined that revocation of the order would likely result in continuation or recurrence of dumping with a margin of 51.16 percent for SAICO, 41.74 percent for Malee, and 24.64 percent for “all others.” We received a case brief on behalf of Respondents. We did not receive a case brief from Maui. Maui filed a timely rebuttal brief. No hearing was requested.

Scope of the Order

The product covered by this order is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (“HTSUS”). HTSUS 2008.20.0010 covers CPF packed in a sugar-based syrup; HTSUS 2008.20.0090 covers CPF packed without added sugar (i.e., juice-packed). Although these HTSUS subheadings are provided for convenience and for customs purposes, the written description of the scope is dispositive. There have been no scope rulings for the subject order.

Analysis of Comments Received

All issues raised in this review are addressed in the “Issues and Decision Memorandum” for Canned Pineapple Fruit from Thailand: Final Results of the Full Sunset Review of the Antidumping Duty Order, from Stephen J. Claeys, Deputy Assistant Secretary for Import Administration, to David M. Spooner, Assistant Secretary for Import Administration, dated February 27, 2007 (Final Decision Memorandum), which is hereby adopted by this notice. Parties may find a complete discussion of all issues raised in this review and the corresponding recommendations in this public memorandum, which is on file in the Central Records Unit, room B-099, of the main Commerce building. In addition, a complete version of the Final Decision Memorandum can be accessed directly on the Web at http://ia.ita.doc.gov/frn. The paper copy and electronic version of the Final Decision Memorandum are identical in content.

Final Results of Review

Pursuant to section 751(c) of the Act, we determine that revocation of the antidumping duty order on CPF from Thailand would be likely to lead to continuation or recurrence of dumping at the following weighted-average margins:

Manufacturers/Exporters/ Producers | Weighted Average Margin (percent)
Siam Agro Industry Pineapple and Others Co., Ltd. (SAICO) | 51.16
Malee Sampran Factory Public Co., Ltd. (Malee) | 41.74
The Thai Pineapple Public Co., Ltd.(TIPCO) | Revoked ¹
Dole Food Company, Inc., Dole Packaged Foods Company, and Dole Thailand, Ltd. (collectively, Dole) | Revoked ²
Siam Food Products, Ltd. (SFP) | Revoked ³
Kuibiri Fruit Canning Company, Ltd. (KFC) | Revoked ⁴
All Others | 24.64
¹ Notice of Final Results of Antidumping Duty Administrative Review and Final Determination To Revoke Order in Part: Canned Pineapple Fruit from Thailand, 69 FR 50164 (August 13, 2004).
² Id.
³ See Final Results of Antidumping Duty Administrative Review, Rescission of Administrative Review in Part, and Final Determination to Revoke Order in Part: Canned Pineapple Fruit from Thailand, 67 FR 76719 (August 13, 2004).
⁴ See Notice of Final Results of Antidumping Duty Administrative Review and Final Determination To Revoke Order in Part: Canned Pineapple Fruit from Thailand, 69 FR 50164 (August 13, 2004).

This notice serves as the only reminder to parties subject to administrative protective order (“APO”) of their responsibility concerning the disposition of proprietary information disclosed under APO in accordance with 19 CFR 351.305. Timely notification of return/ destruction of APO materials or conversion to judicial protective order is hereby requested. Failure to comply with the regulations and the terms of an APO is a violation which is subject to sanction.

We are issuing and publishing the final results of this full sunset review in accordance with sections 751(c), 752, and 777(1)(i) of the Act.

Dated: February 27, 2007.
David M. Spooner,
Assistant Secretary for Import Administration.

[FR Doc. E7-3891 Filed 3-5-07; 8:45 am]

BILLING CODE 3510-DS-S